ENVIRONMENTAL PROTECTION AGENCY

40 CFR Part 52

[EPA-R05-OAR-2020-0385; FRL-12224-02-R5]

Determination of Attainment by the Attainment Date; Michigan; St. Clair 2010 Sulfur Dioxide Nonattainment Area

AGENCY: Environmental Protection Agency (EPA).

ACTION: Final rule.

SUMMARY: The Environmental Protection Agency (EPA) is making a final determination that the St. Clair, MI sulfur dioxide (SO2) nonattainment area attained the 2010 SO2 national ambient air quality standard (NAAQS) by the date of September 12, 2021, addressing EPA's obligation under the Clean Air Act (CAA) to determine whether the area attained the 2010 SO2 NAAQS attainment date. EPA proposed this action on September 26, 2024, and received no comments.

DATES: This final rule is effective on January 27, 2025.

ADDRESSES: EPA has established a docket for this action under Docket ID No. EPA-R05-OAR-2020-0385. All documents in the docket are listed on the https://www.regulations.gov website. Although listed in the index, some information is not publicly available, i.e., Confidential Business Information (CBI), Proprietary Business Information (PBI), or other information whose disclosure is restricted by statute. Certain other material, such as copyrighted material, is not placed on the internet and will be publicly available only in hard copy form. Publicly available docket materials are available either through https://www.regulations.gov or at the Environmental Protection Agency, Region 5, Air and Radiation Division, 77 West Jackson Boulevard, Chicago, Illinois 60604. This facility is open from 8:30 a.m. to 4:30 p.m., Monday through Friday, excluding Federal holidays. We recommend that you telephone Alexis Bender, at (312) 886-9497, bender.alexis@epa.gov before visiting the Region 5 office.

FOR FURTHER INFORMATION CONTACT: Alexis Bender, Air and Radiation Division (AR-18J), Environmental Protection Agency, Region 5, 77 West Jackson Boulevard, Chicago, Illinois 60604, (312) 886-9497, bender.alexis@epa.gov.

SUPPLEMENTARY INFORMATION: Throughout this document whenever “we,” “us,” or “our” is used, we mean EPA.

I. Background

On September 26, 2024 (89 FR 78837), EPA proposed to determine that the St. Clair, MI SO2 nonattainment area attained the 2010 SO2 NAAQS by the attainment date of September 12, 2021. This determination is based on annual SO2 emissions data, modeled data, and certified ambient air quality data from EPA's December 7, 2021, Clean Data Determination for St. Clair, based on 2017 to 2019 data, as well as publicly available additional supporting 2020 data. A detailed explanation of the CAA requirements and EPA's reasons for proposing approval were provided in the notice of proposed rulemaking (NPRM) and will not be restated here. The public comment period for this proposed rule ended on October 28, 2024. EPA received no comments on the proposal.

II. Final Determination

EPA is making a determination that the St. Clair nonattainment area attained the 2010 SO2 NAAQS by the relevant attainment date of September 12, 2021. The determination of attainment by the attainment date does not constitute a redesignation of the St. Clair, MI nonattainment area to attainment of the 2010 SO2 NAAQS under section 107(d)(3) of the CAA. The St. Clair area will remain designated nonattainment for the 2010 SO2 NAAQS until such time as EPA approves a redesignation request and accompanying 10-year maintenance plan, and EPA determines that the area meets the requirements of CAA section 107(d)(3) and provides for maintenance as required by CAA section 175A.

This final action will address EPA's obligation under CAA section 179(c) to determine if the St. Clair Area attained the 2010 SO2 NAAQS by the attainment date of September 12, 2021.

III. Statutory and Executive Order Reviews

A. Executive Order 12866: Regulatory Planning and Review, and Executive Order 14094: Modernizing Regulatory Review

This action is not a “significant regulatory action” under the terms of Executive Order 12866 (58 FR 51735, October 4, 1993) and is therefore not subject to review under Executive Order 14094 (88 FR 21879, April 11, 2023).

B. Paperwork Reduction Act (PRA)

This rule does not impose an information collection burden under the provisions of the PRA of 1995 (44 U.S.C. 3501 et seq.). This action does not contain any information collection activities and serves only to make a final determination that the St. Clair, Michigan nonattainment area attained the 2010 SO2 NAAQS by the September 12, 2021, attainment date.

C. Regulatory Flexibility Act (RFA)

I certify that this action will not have a significant economic impact on a substantial number of small entities under the RFA (5 U.S.C. 601 et seq.). The determination of attainment by attainment date action of attaining the 2010 SO2 NAAQS will not impose any requirements on small entities or will not create any new requirements beyond what is mandated by the CAA.

D. Unfunded Mandates Reform Act (UMRA)

This action does not contain any unfunded mandate as described in UMRA, 2 U.S.C. 1531-1538, and does not significantly or uniquely affect small governments. The action imposes no enforceable duty on any state, local or tribal governments or the private sector.

E. Executive Order 13132: Federalism

This action does not have federalism implications. It will not have substantial direct effects on the states, on the relationship between the national government and the states, or on the distribution of power and responsibilities among the various levels of government. The division of responsibility between the Federal government and the states for purposes of implementing the NAAQS is established under the CAA.

F. Executive Order 13175: Consultation and Coordination With Indian Tribal Governments

Executive Order 13175 (65 FR 67249, November 9, 2000), requires EPA to develop an accountable process to ensure “meaningful and timely input by Tribal officials in the development of regulatory policies that have Tribal implications.” This action does not have Tribal implications as specified in Executive Order 13175. This action does not apply on any Indian reservation land, any other area where EPA or an Indian Tribe has demonstrated that a Tribe has jurisdiction, or non-reservation areas of Indian country. Thus, Executive Order 13175 does not apply to this action.

G. Executive Order 13045: Protection of Children From Environmental Health and Safety Risks

EPA interprets Executive Order 13045 (62 FR 19885, April 23, 1997) as applying to those regulatory actions that concern environmental health or safety risks that EPA has reason to believe may disproportionately affect children, per the definition of “covered regulatory action” in section 2-202 of the Executive Order. This action is not subject to Executive Order 13045 because it does not establish an environmental standard intended to mitigate health or safety risks.

H. Executive Order 13211: Actions That Significantly Affect Energy Supply, Distribution, or Use

This action is not subject to Executive Order 13211 (66 FR 28355, May 22, 2001) because it is not a significant regulatory action under Executive Order 12866.

I. National Technology Transfer and Advancement Act (NTTAA)

This rulemaking does not involve technical standards. Therefore, EPA is not considering the use of any voluntary consensus standards.

J. Executive Order 12898: Federal Actions To Address Environmental Justice in Minority Populations and Low-Income Populations

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. Executive Order 14096 (Revitalizing Our Nation's Commitment to Environmental Justice for All, 88 FR 25251, April 26, 2023) builds on and supplements E.O. 12898 and defines EJ as, among other things, the just treatment and meaningful involvement of all people, regardless of income, race, color, national origin, or Tribal affiliation, or disability in agency decision-making and other Federal activities that affect human health and the environment.”

EPA did not perform an EJ analysis and did not consider EJ in this action. Due to the nature of the action being taken here, this action is expected to have a neutral to positive impact on the air quality of the affected area. Consideration of EJ is not required as part of this action, and there is no information in the record inconsistent with the stated goal of E.O. 12898/14096 of achieving EJ for communities with EJ concerns.

K. Congressional Review Act

This action is subject to the Congressional Review Act, and EPA will submit a rule report to each House of the Congress and to the Comptroller General of the United States. This action is not a “major rule” as defined by 5 U.S.C. 804(2).

L. Judicial Review

Under section 307(b)(1) of the CAA, petitions for judicial review of this action must be filed in the United States Court of Appeals for the appropriate circuit by February 24, 2025. Filing a petition for reconsideration by the Administrator of this final rule does not affect the finality of this rule for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Intergovernmental relations, Sulfur dioxide.

Dated: December 18, 2024.
Debra Shore,
Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. In § 52.1170, the table in paragraph (e) is amended by adding an entry for “2010 Sulfur Dioxide Determination of Attainment by the Attainment Date” before the entry for “Determination of failure to attain the 2010 SO2 standard” to read as follows:

§ 52.1170 Identification of plan.

* * * * *

(e) * * *

EPA-Approved Michigan Nonregulatory and Quasi-Regulatory Provisions
Name of nonregulatory SIP provision | Applicable geographic or non- attainment area | State submittal date | EPA Approval date | Comments
* * * * * * *
2010 Sulfur Dioxide Determination of Attainment by the Attainment Date | St. Clair County (part) |  | 12/26/2024, [INSERT FIRST PAGE OF Federal Register CITATION] |
* * * * * * *

* * * * *

[FR Doc. 2024-30583 Filed 12-23-24; 8:45 am]

BILLING CODE 6560-50-P